DEPARTMENT OF HEALTH AND HUMAN SERVICES

Centers for Medicare & Medicaid Services

[Document Identifier: CMS-276, CMS-10716 and CMS-10799]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by May 20, 2025.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: ____, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-276 Prepaid Health Plan Cost Report

CMS-10716 Applicable Integrated Plan Coverage Decision Letter

CMS-10799 D-SNP Enrollee Advisory Committee

Under the PRA (44 U.S.C. 3501-3520), federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires federal agencies to publish a 60-day notice in the Federal Register concerning each proposed collection of information, including each proposed extension or reinstatement of an existing collection of information, before submitting the collection to OMB for approval. To comply with this requirement, CMS is publishing this notice.

Information Collections

1. Type of Information Collection Request: Revision of a currently approved collection; Title of Information Collection: Prepaid Health Plan Cost Report; Use: The Cost Report outlines the provisions for implementing Sections 1876(h) and 1833(a)(1)(A) of the Social Security Act (Act). Organizations contracting with the Secretary under the Act provide health services on a prepayment basis to enrolled members and are required to submit adequate cost and statistical data, based on financial records, in order to be reimbursed on reasonable cost basis by CMS. Organizations include Health Maintenance Organizations (HMOs) and Competitive Medical Plans (CMPs) under Section 1876, in addition to, Health Care Prepayment Plans (HCPPs) under Section 1833. These entities may be collectively referred to as “Managed Care Organizations” (MCOs).

Form CMS 276, provided by CMS as excel worksheets, covers the prescribed format for the cost reports. The worksheets are designed to be of sufficient flexibility to take into account the diversity of operations, yet provide the necessary cost and statistical information to enable CMS to determine the proper amount of payment to the Plan. Cost-based MCOs must submit through HPMS an annual Budget Forecast, semi-annual interim, and final cost report to CMS, all of which are included in this collection. Additionally, HMOs/CMPs are required to submit fourth quarter interim reports annually to CMS. Please note that HCPPs are not required to submit fourth quarter interim reports. Form Number: CMS-276 (OMB control number: 0938-0165); Frequency: Yearly, semi-annually, and once; Affected Public: Private sector; Number of Respondents: 16; Number of Responses: 36; Total Annual Hours: 1,128. (For questions regarding this collection contact Frank Cisar at 410-786-7553).

2. Type of Information Collection Request: Revision with change of a currently approved collection; Title of Information Collection: Applicable Integrated Plan Coverage Decision Letter; Use: Section 1859(f)(8) of the Act requires development of unified grievance and appeals processes for D-SNPs, to the extent feasible. We finalized regulations for integrated organization determinations at § 422.631, affecting D-SNP administration for January 1, 2021 and beyond. The rule requires applicable integrated plans to send an enrollee a written notice of any adverse decision on an integrated organization determination using a notice that is written in plain language and contains the information detailed at § 422.631(d)(1)(iii).

Applicable integrated plans as defined at § 422.561 issue form CMS-10716 when a request for either a medical service or payment is denied in whole or in part after considering both the Medicare and Medicaid benefit. Applicable integrated plans issue this form to enrollees when the plan reduces, stops, suspends, changes, or denies, in whole or in part, a request for a service or item (including a Part B drug) or a request for payment of a service or item (including a Part B drug) that the enrollee has already received. The form provides the enrollee with information regarding their right to an appeal of the applicable integrated plan's decision and the enrollee will use the instructions to navigate the appeal process. Form Number: CMS-10716 (OMB control number 0938-1386); Frequency: Occasionally; Affected Public: Private Sector and Business or other for-profits; Number of Respondents: 129; Number of Responses: 10,468; Total Annual Hours: 1,745. (For questions regarding this collection contact Kristi Sugarman at 415-744-3629.)

3. Type of Information Collection Request: Extension of a currently approved collection; Title of Information Collection: D-SNP Enrollee Advisory Committee; Use: CMS established paragraph (f) at § 422.107 under our authority at section 1856(b)(1) of the Act to establish in regulation other standards not otherwise specified in statute that are both consistent with Part C statutory requirements and necessary to carry out the MA program and our authority at section 1857(e) of the Act to adopt other terms and conditions not inconsistent with Part C as the Secretary may find necessary and appropriate.

MA organizations with D-SNPs would use the information collected from enrollees in the enrollee advisory committee to help identify and address barriers to high-quality, coordinated care for enrollees. Any collection of information directly from MA organizations offering a D-SNPs regarding the enrollee advisory committee requirement § 422.107(f) will be included in a separate PRA package. CMS is collecting data on D-SNP enrollee advisory committees as part of the CY 2025 Part C Reporting Requirements. Form Number: CMS-10799 (OMB control number 0938-1422); Frequency: Occasionally; Affected Public: Private Sector and Business or other for-profits; Number of Respondents: 398; Number of Responses: 398; Total Annual Hours: 15,920. (For questions regarding this collection contact Melissa Maker at 212-616-2329.)

William N. Parham, III,
Director, Division of Information Collections and Regulatory Impacts, Office of Strategic Operations and Regulatory Affairs.

[FR Doc. 2025-04890 Filed 3-20-25; 8:45 am]

BILLING CODE 4120-01-P